DEPARTMENT OF JUSTICE

Notice Lodging of Proposed Consent Decree Amendment Under the Clean Water Act

On June 23, 2022, the Department of Justice lodged a proposed Second Amendment to Consent Decree (“Second Amendment”) with the United States District Court for the Northern District of Ohio in the lawsuit entitled United States and State of Ohio v. City of Toledo, Ohio, Civil Action No. 3:91-7646. This is a corrected notice of lodging, which included Appendix A to the proposed Second Amendment, which was not included in the original lodging, which was filed on April 19, 2022.

The Court entered a consent decree in this case on December 16, 2002, which resolved violations the United States and State of Ohio alleged under the Clean Water Act and Toledo's wastewater treatment discharge permit for the City of Toledo's (the “City”) discharges from the City's treatment plant and sewer system. The consent decree, as subsequently amended in 2011, required Toledo, pertinent to the Second Amendment to: (1) expand treatment plant capacity to handle the greater amounts of sewage combined with storm water or snowmelt arriving at the treatment plant during such wet weather periods; (2) implement a Long Term Control Plan to reduce the discharges of combined stormwater and sanitary sewage from the portions of Toledo's sewer system known as the City's combined sewer system, which among other things, requires Toledo to construct extensions to tunnels that store such combined sewage during periods of rain or snowmelt for transport to the City's wastewater treatment plant following such periods; and (3) study the effectiveness of pathogen removal in the wet weather system Toledo constructed at its wastewater treatment plant pursuant to the consent decree.

The proposed Second Amendment requires the City to construct separate storm sewers instead of the Swan Creek North Tunnel Extension. The storm sewer construction is intended to reduce congestion in Toledo's combined sewer system more than the tunnel extension would, resulting in fewer combined sewage discharges and less total volume of sewer overflows into Swan Creek. Second, the Second Amendment authorizes changes in one of the discharge locations from the combined sewer system located near Jamie Farr Park after three combined sewer outfalls are combined into one. Both locations are at the Maumee River; they are about 0.4 miles apart. The original planned consolidated outfall was located southeast of the intersection of Summit Street and Galena Street, while the location of the consolidated outfall under this amendment is located southeast of the intersection of Summit Street and Columbus Street. The original planned consolidated outfall was located southeast of the intersection of Summit Street and Galena Street, while the new one is located southeast of the intersection of Summit Street and Columbus Street. Third, the amendment allows the City to conclude the pathogen removal study early, after the parties realized that undertaking any additional study would not provide additional information pertinent to pathogen removal issues.

The publication of this notice opens a period for public comment on the Second Amendment. Comments should be addressed to the Assistant Attorney General, Environment and Natural Resources Division, and should refer to United States and State of Ohio v. City of Toledo, D.J. Ref. No. 90-5-1-1-3554. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Second Amendment may be examined and downloaded at this Justice Department website: http://www.justice.gov/enrd/consent-decrees. We will provide a paper copy of the Second Amendment upon written request and payment of reproduction costs. Please mail your request and payment to: Consent Decree Library, U.S. DOJ—ENRD, P.O. Box 7611, Washington, DC 20044-7611.

Please enclose a check or money order for $7.25 (25 cents per page reproduction cost) payable to the United States Treasury.

Patricia McKenna,
Assistant Section Chief, Environmental Enforcement Section, Environment and Natural Resources Division.

[FR Doc. 2022-13950 Filed 6-29-22; 8:45 am]

BILLING CODE 4410-15-P